DEPARTMENT OF HEALTH AND HUMAN SERVICES

National Institutes of Health

Proposed Collection; Comment Request; NCCAM Customer Service Data Collection

Summary: Under the provisions of section 3507(a)(1)(D) of the Paperwork Reduction Act of 1995, the National Center for Complementary and Alternative Medicine (NCCAM), the National Institutes of Health (NIH), will submit to the Office of Management and Budget (OMB) a request for review and approval of the information collection listed below. A notice of this proposed information collection was previously published in the Federal Register on February 22, 2006, pages 9135-9136. To date, no public comments have been received. The purpose of this notice is to announce a final 30 days for public comment. NIH may not conduct or sponsor, and the respondent is not required to respond to, an information collection that has been extended, revised, or implemented on or after October 1, 1995, unless it displays a currently valid OMB control number.

Proposed Collection: Title: NCCAM Customer Service Data Collection. Type of Information Collection Request: Renewal. Need and Use of Information Collection: NCCAM provides the public, patients, families, health care providers, complementary and alternative medicine (CAM) practitioners, and others with the latest scientifically based information on CAM and information about NCCAM's programs through a variety of channels, including its toll-free telephone information service and its quarterly newsletter. NCCAM wishes to continue to measure customer satisfaction with NCCAM telephone interactions and the NCCAM newsletter and to assess which audiences are being reached through these channels. This effort involves a telephone survey consisting of 10 questions, which 25 percent of all callers are asked to answer, for an annual total of approximately 1,210 respondents, and a newsletter survey consisting of 10 questions, which is sent to all U.S.-based print newsletter subscribers and which Web users have the option of completing when they exit the page where the latest issue of the newsletter is posted, for an annual total of approximately 839 respondents. NCCAM uses the data collected from the surveys to help program staff measure the impact of their communication efforts, tailor services to the public and health care providers, measure service use among special populations, and assess the most effective media and messages to reach these audiences. Frequency of Response: Once for the telephone survey and periodically for the newsletter survey (to measure any changes in customer satisfaction). Affected Public: Individuals and households. Type of Respondents: For the telephone survey, patients, spouses/family/friends of patients, health care providers, physicians, CAM practitioners, or other individuals contacting the NCCAM Clearinghouse; for the newsletter survey, subscribers to the print NCCAM newsletter and visitors to the newsletter page on NCCAM's Web site. The annual reporting burden is as follows:

Type of respondents | Estimated number of respondents | Estimated number of responses per respondent | Average burden hours per response | Estimated total annual burden hours requested
Telephone survey
Individuals or households | 1,150 | 1 | 0.075 | 86
Physicians | 12 | 1 | 0.075 | 1
CAM/health practitioners | 48 | 1 | 0.075 | 4
Newsletter survey (print)
Individuals or households | 204 | 1 | 0.050 | 10
Physicians | 27 | 1 | 0.050 | 2
CAM/health practitioners | 108 | 1 | 0.050 | 5
Newsletter survey (online)
Individuals or households | 300 | 1 | 0.050 | 15
Physicians | 40 | 1 | 0.050 | 2
CAM/health practitioners | 160 | 1 | 0.050 | 8
Annualized totals | 2,049 |  |  | 133

The annualized cost to respondents is estimated at $1,770 for the telephone survey, $507 for the print newsletter survey, and $714 for the online newsletter survey. There are no Capital Costs to report. There are no Operating or Maintenance Costs to report.

Request for Comments: Written comments and/or suggestions from the public and affected agencies are invited on the following points: (1) Whether the proposed collection of information is necessary for the proper performance of the function of the agency, including whether the information will have practical utility; (2) The accuracy of the agency's estimate of the burden of the proposed collection of information, including the validity of the methodology and assumptions; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact: Christy Thomsen, Director, Office of Communications and Public Liaison, NCCAM, 31 Center Drive, Room 2B-11, Bethesda, MD 20892-2182; or fax your request to 301-402-4741; or e-mail thomsenc@mail.nih.gov. Ms. Thomsen can be contacted by telephone at 301-451-8876.

Comments Due Date: Comments regarding this information collection are best assured of having their full effect if received within 30 days of the date of this publication.

Dated: May 30, 2006.
Christy Thomsen,
Director, Office of Communications and Public Liaison, National Center for Complementary and Alternative Medicine, National Institutes of Health.

[FR Doc. E6-8679 Filed 6-2-06; 8:45 am]

BILLING CODE 4140-01-P